DEPARTMENT OF HEALTH AND HUMAN SERVICES

Centers for Disease Control and Prevention

Disease, Disability, and Injury Prevention and Control Special Emphasis Panel (SEP)-DP21-002, Epidemiologic Cohort Study of Interstitial Cystitis; Amended Notice of Meeting

Notice is hereby given of a change in the meeting of the Disease, Disability, and Injury Prevention and Control Special Emphasis Panel (SEP)-DP21-002, Epidemiologic Cohort Study of Interstitial Cystitis, March 30, 2021, 10:00 a.m.-6:00 p.m., EST, which was published in the Federal Register on Friday, December 11, 2020, Volume 85, Number 239, page 80107.

The meeting on March 30, 2021 is being amended to change the time and should read as follows:

Time: 12:00 p.m.-3:00 p.m., EDT.

The meeting is closed to the public.

For Further Information Contact: Jaya Raman, Ph.D., Scientific Review Officer, National Center for Chronic Disease Prevention and Health Promotion, CDC, 4770 Buford Highway, Mailstop S107-8, Atlanta, Georgia 30341, Telephone (770) 488-6511, JRaman@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-02736 Filed 2-9-21; 8:45 am]

BILLING CODE 4163-18-P